DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Deep Seabed Mining Regulations for Exploration Licenses.

Form Number(s): None.

OMB Approval Number: 0648-0471.

Type of Request: Regular submission.

Burden Hours: 169.

Number of Respondents: 45.

Average Hours per Response: 2 hours for a scientific research plan; 40 minutes for an application for an Exempted Fishing Permit (EFP), display permit, Scientific Research Permit, chartering permit, or Letter of Acknowledgment for Highly Migratory Species; 1 hour for an interim report; 30 minutes for an annual fishing report; 15 minutes for an application for an amendment to an EFP; 5 minutes for notification of departure phone calls to NMFS Enforcement; 2 minutes for “no-catch” reports; and 2 minutes for tag applications.

Needs and Uses: Information is requested that will be used in support of the National Marine Fisheries Service (NMFS) issuing Scientific Research Permits, Exempted Fishing Permits, and Letters of Acknowledgment regarding highly migratory species (HMS), and that will also enhance and facilitate NMFS compliance and enforcement capabilities regarding HMS scientific research and exempted fishing activities. In addition, the information will assist with future stock assessments.

Affected Public: Business or other for-profit.

Frequency: Annually, monthly and within five days of fishing.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 10, 2006.
Gwellnar Banks,
Management Analyst, Office of the Chief Information Officer.

[FR Doc. E6-347 Filed 1-13-06; 8:45 am]

BILLING CODE 3510-22-P